POSTAL SERVICE

Product Change—Priority Mail Express, Priority Mail, and USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: December 29, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and number | MC docket number | K docket number
12/15/25 | PME-PM-GA 1469 | MC2026-136 | K2026-136
12/17/25 | PM 951 | MC2026-140 | K2026-140
12/17/25 | PME-PM-GA 1470 | MC2026-141 | K2026-141
12/19/25 | PME-PM-GA 1471 | MC2026-142 | K2026-142
12/19/25 | PS 36 | MC2026-143 | K2026-143

Documents are available at www.prc.gov.

Sean C. Robinson,
Attorney, Corporate and Postal Business Law.

[FR Doc. 2025-23800 Filed 12-23-25; 8:45 am]

BILLING CODE 7710-12-P